DEPARTMENT OF TRANSPORTATION

Federal Aviation Administration

[Docket No. FAA-2023-1695; Summary Notice No. 2024-23]

Petition for Exemption; Summary of Petition Received; Northwest Aerospace Technologies

AGENCY: Federal Aviation Administration (FAA), DOT.

ACTION: Notice of petition for exemption received.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before June 25, 2024.

ADDRESSES: Send comments identified by docket number FAA-2023-1695 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Deana Stedman, AIR-646, Federal Aviation Administration, phone (206) 231-3187, email Deana.Stedman@faa.gov.

This notice is published pursuant to 14 CFR 11.85.

Issued in Washington, DC, on May 30, 2024.
Daniel J. Commins,
Manager, Integration and Performance Branch, Policy and Standards Division, Aircraft Certification Service.

Petition for Exemption

Docket No.: FAA-2023-1695.

Petitioner: Northwest Aerospace Technologies.

Section(s) of 14 CFR Affected: § 25.813(e).

Description of Relief Sought: Petitioner is seeking relief from 14 CFR 25.813(e), which states that no door may be installed between any passenger seat that is occupiable for takeoff and landing and any passenger emergency exit, such that the door crosses any egress path (including aisles, crossaisles, and passageways). Specifically, the petitioner is proposing to install six high-wall suite systems, with translating doors, in the cabin of Boeing Model 787-9 airplanes.

[FR Doc. 2024-12269 Filed 6-4-24; 8:45 am]

BILLING CODE 4910-13-P